DEPARTMENT OF ENERGY

Federal Energy Regulatory Commission

[Docket Nos. CP04-47-000, CP04-37-000, PF04-01-000, PF04-03-000, PF04-9-000, and PF04-11-000]

Sabine Pass LNG, L.P., Corpus Christi LNG, L.P., Golden Pass LNG Terminal L.P., Vista del Sol LNG Terminal Management LLC, Ingle Side Energy Center LLC, Sempra Port Arthur LNG; Notice of Site Visit and Technical Conference

June 9, 2004.

On Tuesday June 22, 2004, staff of the Office of Energy Projects (OEP) will conduct a visit to the sites of Sabine Pass, Golden Pass, and Port Arthur LNG. On Wednesday, June 23, 2004, the staff of the OEP will conduct another visit to the sites of Corpus Christi, Vista del Sol, and Ingle Side LNG. All six sites will be open to the public. Anyone interested in participating should meet at the entrance of the sites at the specified dates above. Tuesday's site visit will commence at approximately 2 p.m., (c.s.t.) and Wednesday's at 11 a.m. (c.s.t.). It is requested that each company listed above provide access to the sites. For additional information, please contact the Commission's Office of External Affairs at 1-866-208-FERC (3372).

On Thursday June 24, 2004, OEP will convene a cryogenic design and technical conference of the two proposed Sabine Pass and Corpus Christi LNG import terminals and storage facilities in Houston, Texas. The cryogenic conference will begin at 9 a.m. (c.s.t.) on June 24, 2004, at the InterContinental Houston, Texas Hotel. In view of the nature of security issues to be explored, the cryogenic conference will not be open to the public. Attendance at the conference will be limited to existing parties to the proceeding in Dockets CP04-37-000 and CP04-47-000 (anyone who has specifically requested to intervene as a party) and to representatives of interested Federal, State and local agencies. Any person planning to attend the June 24, conference must notify the Office of General Counsel, Carolyn Vanderjagt (Corpus Christi) at (202) 502-8620, or Jacqueline Holmes (Sabine Pass) at (202) 502-8198 by 12 noon on June 23, 2004, and must sign a non-disclosure statement prior to admission.

Linda Mitry,
Acting Secretary.

[FR Doc. E4-1351 Filed 6-16-04; 8:45 am]

BILLING CODE 6717-01-P